NUCLEAR REGULATORY COMMISSION

[NRC-2019-0187]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from August 27, 2019 to September 9, 2019. The last biweekly notice was published on September 10, 2019.

DATES: Comments must be filed by October 24, 2019. A request for a hearing must be filed by November 25, 2019.

ADDRESSES: You may submit comments by any of the following methods:

• Federal Rulemaking Website: Go to https://www.regulations.gov and search for Docket ID NRC-2019-0187. Address questions about NRC dockets IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411, email: Shirley.Rohrer@nrc.gov.

SUPPLEMENTARY INFORMATION:

I. Obtaining Information and Submitting Comments

A. Obtaining Information

Please refer to Docket ID NRC-2019-0187, facility name, unit number(s), plant docket number, application date, and subject when contacting the NRC about the availability of information for this action. You may obtain publicly-available information related to this action by any of the following methods:

• Federal Rulemaking Website: Go to https://www.regulations.gov and search for Docket ID NRC-2019-0187.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0187, facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the NRC is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Exelon Generation Company, LLC, Docket Nos. 50-352 and 50-353, Limerick Generating Station (Limerick), Units 1 and 2, Montgomery County, Pennsylvania

Date of amendment request: August 1, 2019. A publicly-available version is in ADAMS under Accession No. ML19213A246.

Description of amendment request: The amendments would relocate the following operability and surveillance requirements from the Limerick Technical Specifications (TSs) to the Limerick Technical Requirements Manual: TS Section 3.3.7.8.1, “Chlorine Detection System,” and TS Section 3.3.7.8.2, “Toxic Gas Detection System.”

Basis for proposed no significant hazards consideration determination: As required by 10 CFR 50.91(a), the licensee has provided its analysis of the issue of no significant hazards consideration, which is presented below:

1. Do the proposed changes involve a significant increase in the probability or consequences of an accident previously evaluated?

Response: No.

The proposed changes do not alter the physical design of any plant structure, system, or component; therefore, the proposed changes have no adverse effect on plant operation, or the availability or operation of any accident mitigation equipment. The plant response to the design basis accidents does not change. Operation or failure of the Chlorine Detection System and the Toxic Gas Detection System are not assumed to be initiators of any analyzed event in the Updated Final Safety Analysis Report (UFSAR) and cannot cause an accident. Whether the requirements for the Chlorine Detection System and the Toxic Gas Detection System are in TS or another licensee-controlled document has no effect on the probability or consequences of any accident previously evaluated.

Therefore, the proposed changes do not involve a significant increase in the probability or consequences of an accident previously evaluated.

2. Do the proposed changes create the possibility of a new or different kind of accident from any accident previously evaluated?

Response: No.

The proposed changes do not alter the plant configuration (no new or different type of equipment is being installed) or require any new or unusual operator actions. The proposed changes do not alter the safety limits or safety analysis assumptions associated with the operation of the plant. The proposed changes do not introduce any new failure modes that could result in a new accident. The proposed changes do not reduce or adversely affect the capabilities of any plant structure, system, or component in the performance of their safety function. Also, the response of the plant and the operators following the design basis accidents is unaffected by the proposed changes.

Therefore, the proposed changes do not create the possibility of a new or different kind of accident from any accident previously evaluated.

3. Do the proposed changes involve a significant reduction in a margin of safety?

Response: No.

The proposed changes have no adverse effect on plant operation, or the availability or operation of any accident mitigation equipment. The plant response to the design basis accidents does not change. The proposed changes do not adversely affect existing plant safety margins or the reliability of the equipment assumed to operate in the safety analyses. There is no change being made to safety analysis assumptions, safety limits or limiting safety system settings that would adversely affect plant safety as a result of the proposed changes.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket No. 50-461, Clinton Power Station, Unit No. 1, DeWitt County, Illinois

Exelon Generation Company, LLC, Docket Nos. 50-010, 50-237, and 50-249, Dresden NuclearPower Station, Units 1, 2, and 3, Grundy County, Illinois

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of amendment request: August 23, 2019. A publicly-available version is in ADAMS under Accession No. ML19239A006.

Description of amendment request: The amendments would revise the emergency plans for each of these facilities by removing specific references to radiation monitoring instrumentation in emergency action level (EAL) RA3.

Basis for proposed no significant hazards consideration determination: As required by 10 CFR 50.91(a), the licensee has provided its analysis of the issue of no significant hazards consideration for each site, which is presented below:

1. Does the proposed amendment involve a significant increase in the probability or consequences of an accident previously evaluated?

Response: No.

The proposed change to EAL RA3.1 for the Exelon facilities noted meets the guidance established in NEI 99-01, Revision 6, as endorsed by the NRC and does not reduce the capability to meet the emergency planning requirements established in 10 CFR 50.47 and 10 CFR 50, Appendix E. The proposed change does not reduce the functionality, performance, or capability of Exelon's ERO [emergency response organization] to respond in mitigating the consequences of any design basis accident.

The probability of a reactor accident requiring implementation of Emergency Plan EALs has no relevance in determining whether the proposed change to EAL RA3.1 will reduce the effectiveness of the Emergency Plans. As discussed in Section D, “Planning Basis,” of NUREG-0654, Revision 1, “Criteria for Preparation and Evaluation of Radiological Emergency Response Plans and Preparedness in Support of Nuclear Power Plants”:

“. . . The overall objective of emergency response plans is to provide dose savings (and in some cases immediate life saving) for a spectrum of accidents that could produce offsite doses in excess of Protective Action Guides (PAGs). No single specific accident sequence should be isolated as the one for which to plan because each accident could have different consequences, both in nature and degree. Further, the range of possible selection for a planning basis is very large, starting with a zero point of requiring no planning at all because significant offsite radiological accident consequences are unlikely to occur, to planning for the worst possible accident, regardless of its extremely low likelihood. . . .”

Therefore, Exelon did not consider the risk insights regarding any specific accident initiation or progression in evaluating the proposed change involving EAL RA3.

The proposed change to EAL RA3.1 does not involve any physical changes to plant equipment or systems, nor does the proposed change alter the assumptions of any accident analyses. The proposed change does not adversely affect accident initiators or precursors nor does the proposed change alter the design assumptions, conditions, and configuration or the manner in which the plants are operated and maintained. The proposed change does not adversely affect the ability of Structures, Systems, or Components (SSCs) to perform their intended safety functions in mitigating the consequences of an initiating event within the assumed acceptance limits.

Therefore, the proposed change to EAL RA3.1 for the affected sites does not involve a significant increase in the probability or consequences of an accident previously evaluated.

2. Does the proposed amendment create the possibility of a new or different kind of accident from any accident previously evaluated?

Response: No.

The proposed change to EAL RA3.1 for the Exelon facilities noted meets the guidance established in NEI 99-01, Revision 6, as endorsed by the NRC and does not involve any physical changes to plant systems or equipment. The proposed change does not involve the addition of any new plant equipment. The proposed change will not alter the design configuration, or method of operation of plant equipment beyond its normal functional capabilities. Exelon ERO functions will continue to be performed as required. The proposed change does not create any new credible failure mechanisms, malfunctions, or accident initiators.

Therefore, the proposed change to EAL RA3.1 for the affected sites does not create the possibility of a new or different kind of accident from those that have been previously evaluated.

3. Does the proposed amendment involve a significant reduction in a margin of safety?

Response: No.

The proposed change to EAL RA3.1 for the Exelon facilities noted meets the guidance established in the guidance in NEI 99-01, Revision 6, as endorsed by the NRC and does not alter or exceed a design basis or safety limit. There is no change being made to safety analysis assumptions, safety limits, or limiting safety system settings that would adversely affect plant safety as a result of the proposed change. There are no changes to setpoints or environmental conditions of any SSC or the manner in which any SSC is operated. Margins of safety are unaffected by the proposed change to EAL RA3. The applicable requirements of 10 CFR 50.47 and 10 CFR 50, Appendix E will continue to be met.

Therefore, the proposed change to EAL RA3.1 for the affected sites does not involve any reduction in a margin of safety.

The NRC staff has reviewed the licensee's analysis for each site and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Acting Branch Chief: Lisa M. Regner.

Southern Nuclear Operating Company, Docket No. 52-026, Vogtle Electric Generating Plant (VEGP), Unit 4, Burke County, Georgia

Date of amendment request: August 22, 2019. A publicly-available version is in ADAMS under Accession No. ML19234A327.

Description of amendment request: The amendment proposes to depart from AP1000 Design Control Document Tier 2* material that has been incorporated into the Updated Final Safety Analysis Report (UFSAR). The proposed departure consists of changes to Tier 2* information in the UFSAR to change the provided area of horizontal reinforcement for VEGP Unit 4 Wall L and Wall 7.3 from elevation 117′-6″ to 135′-3″.

Basis for proposed no significant hazards consideration determination: As required by 10 CFR 50.91(a), the licensee has provided its analysis of the issue of no significant hazards consideration, which is presented below:

1. Does the proposed amendment involve a significant increase in the probability or consequences of an accident previously evaluated?

Response: No.

As described in UFSAR Subsections 3H.5.1.2 and 3H.5.1.3, interior Wall 7.3 and Wall L are located in the auxiliary building.

UFSAR, Section 3H.5 classifies Interior Wall on Column Line 7.3, from elevation (EL) 66′-6″ to 160′-6″ as a “Critical Section.” UFSAR, Section 3H.5 classifies Interior Wall on Column Line L, from EL 117′-6″ to 153-0″ as a Critical Section.” Deviations were identified in the constructed walls from the design requirements. The proposed changes modify the provided area of steel horizontal reinforcement for VEGP Unit 4 Wall L and Wall 7.3 from elevation 117′-6″ to 135′-3″. These changes maintain conformance to American Concrete Institute (ACI) 349-01 and have no adverse impact on the seismic response of Wall L and Wall 7.3 Wall L and Wall 7.3 continue to withstand the design basis loads without loss of structural integrity or the safety-related functions. The proposed changes do not affect the operation of any system or equipment that initiates an analyzed accident or alter any structures, systems, and components (SSC) accident initiator or initiating sequence of events.

This change does not adversely affect the design function of VEGP Unit 4 Wall L and Wall 7.3, or the SSCs contained within the auxiliary building. This change does not involve any accident initiating components or events, thus leaving the probabilities of an accident unaltered.

Therefore, the proposed amendment does not involve a significant increase in the probability or consequences of a previously evaluated accident.

2. Does the proposed amendment create the possibility of a new or different kind of accident from any accident previously evaluated?

Response: No.

The proposed change modifies the provided area of steel horizontal reinforcement for VEGP Unit 4 Wall L and Wall 7.3 from elevation 117′-6″ to 135-3″. As demonstrated by the continued conformance to the applicable codes and standards governing the design of the structures, the walls withstand the same effects as previously evaluated. The proposed change does not affect the operation of any systems or equipment that may initiate a new of different kind of accident or alter any SSC such that a new accident initiator or initiating sequence of events is created. The proposed change does not adversely affect the design function of auxiliary building Wall L and Wall 7.3, or any other SSC design functions or methods of operation in a manner that results in a new failure mode, malfunction, or sequence of events that affect safety-related or non-safety-related equipment. This change does not allow for a new fission product release path, result in a new fission product barrier failure mode, or create a new sequence of events that result in significant fuel cladding failures.

Therefore, the proposed amendment does not create the possibility of a new or different kind of accident from any accident previously evaluated.

3. Does the proposed amendment involve a significant reduction in a margin of safety?

Response: No.

The proposed change modifies the provided area of steel horizontal reinforcement for VEGP Unit 4 Wall L and Wall 7.3 from elevation 117′-6″ to 135′-3″. This change maintains conformance to ACI 349-01. The changes to Wall L and Wall 7.3 horizontal reinforcement from elevation 117′-6″ to 135′-3″ do not change the performance of the affected portion of the auxiliary building for postulated loads. The criteria and requirements of ACI 349-01 provide a margin of safety to structural failure. The design of the auxiliary building structure conforms to criteria and requirements in ACI 349-01 and therefore, maintains the margin of safety. The change does not alter any design function, design analysis, or safety analysis input or result, and sufficient margin exists to justify departure from the Tier 2* requirements for the walls. As such, because the system continues to respond to design basis accidents in the same manner as before without any changes to the expected response of the structure, no safety analysis or design basis acceptance limit/criterion is challenged or exceeded by the proposed changes. Accordingly, no significant safety margin is reduced by the change.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer L. Dixon-Herrity.

Southern Nuclear Operating Company, Docket Nos. 52-025 and 52-026, Vogtle Electric Generating Plant (VEGP), Units 3 and 4, Burke County, Georgia

Date of amendment request: July 26, 2019. A publicly-available version is in ADAMS under Accession No. ML19207A727.

Description of amendment request: The amendment request proposes changes to the Combined License (COL) Numbers NPF-91 and NPF-92 for VEGP, Units 3 and 4, and Updated Final Safety Analysis Report (UFSAR). Specifically, the requested amendment would eliminate COL condition 2.D.(2)(a)1 which describes a first plant Pressurizer Surge Line Stratification Evaluation and make related revisions to the UFSAR Tier 2 information.

Basis for proposed no significant hazards consideration determination: As required by 10 CFR 50.91(a), the licensee has provided its analysis of the issue of no significant hazards consideration, which is presented below:

1. Does the proposed amendment involve a significant increase in the probability or consequences of an accident previously evaluated?

Response: No.

The proposed change does not affect the operation of any systems or equipment that initiates an analyzed accident or alter any structures, systems, or components [SSC] accident initiator or initiating sequence of events. The proposed changes remove the requirement to perform the Pressurizer Surge Line Stratification Evaluation first plant tests based on a number of factors that render the testing unnecessary. The changes do not adversely affect any methodology which would increase the probability or consequences of a previously evaluated accident.

The change does not impact the support, design, or operation of mechanical or fluid systems. There is no change to plant systems or the response of systems to postulated accident conditions. There is no change to predicted radioactive releases due to normal operation or postulated accident conditions. The plant response to previously evaluated accidents or external events is not adversely affected, nor does the proposed change create any new accident precursors.

The proposed changes do not involve a change to any mitigation sequence or the predicted radiological releases due to postulated accident conditions, thus, the consequences of the accidents evaluated in the UFSAR are not affected.

Therefore, the proposed amendment does not involve a significant increase in the probability or consequences of a previously evaluated accident.

2. Does the proposed amendment create the possibility of a new or different kind of accident from any accident previously evaluated?

Response: No.

The proposed changes remove the requirement to perform the Pressurizer Surge Line Stratification Evaluation first plant tests based on a number of factors that render the testing unnecessary. The proposed changes do not adversely affect any design function of any SSC design functions or methods of operation in a manner that results in a new failure mode, malfunction, or sequence of events that affect safety-related or non-safety-related equipment. This proposed change does not allow for a new fission product release path, result in a new fission product barrier failure mode, or create a new sequence of events that result in significant fuel cladding failures.

These proposed changes do not adversely affect any other SSC design functions or methods of operation in a manner that results in a new failure mode, malfunction, or sequence of events that affect safety-related or non-safety-related equipment. Therefore, this proposed change does not allow for a new fission product release path, result in a new fission product barrier failure mode, or create a new sequence of events that results in significant fuel cladding failures.

Therefore, the proposed amendment does not create the possibility of a new or different kind of accident from any accident previously evaluated.

3. Does the proposed amendment involve a significant reduction in a margin of safety?

Response: No.

The proposed change maintains existing safety margin and provides adequate protection through continued application of the existing design requirements in the UFSAR. The proposed change satisfies the same design functions in accordance with the same codes and standards as stated in the UFSAR. This change does not adversely affect any design code, function, design analysis, safety analysis input or result, or design/safety margin.

No safety analysis or design basis acceptance limit/criterion is challenged or exceeded by this change, and no significant margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station, Units 1 and 2, York County, South Carolina

Date of amendment requests: May 2, 2017, as supplemented by letters dated July 20 and November 21, 2017; December 3, 2018; and March 7, April 8, July 10, and August 1, 2019.

Brief description of amendments: The amendments modified Catawba's Technical Specifications (TSs) to extend the Completion Time (CT) of TS 3.8.1, “AC Sources—Operating,” Required Action B.6 (existing Required Action B.4, numbered as B.6) for an inoperable emergency diesel generator (EDG) from 72 hours to 14 days. To support this request, the licensee will add a supplemental power source (i.e., two supplemental diesel generators (SDGs) per station) with the capability to power any emergency bus.

The SDGs will have the capacity to bring the affected unit to cold shutdown. Additionally, the amendments would modify TS 3.8.1 to add new two limiting conditions for operation (LCOs), TS LCO 3.8.1.c and TS LCO 3.8.1.d, to ensure that at least one train of shared components has an operable emergency power supply. Corresponding Conditions, Required Actions and CTs of TS 3.8.1 are revised to account for the new supplemental AC power source.

Date of issuance: August 27, 2019.

Effective date: These license amendments are effective as of its date of issuance and shall be implemented within 120 days of issuance.

Amendment Nos.: 304 (Unit 1) and 300 (Unit 2). A publicly-available version is in ADAMS under Accession No. ML19212A655; documents related to these amendments are listed in the Safety Evaluation enclosed with the amendments.

Renewed Facility Operating License Nos. NPF-35 and NPF-52: Amendments revised the Renewed Licenses and TSs.

Date of initial notice in Federal Register: February 27, 2018 (83 FR 8512). The supplemental letters dated July 20 and November 21, 2017; December 3, 2018; and March 7, April 8, July 10, and August 1, 2019, provided additional information that clarified the application, did not expand the scope of the application as originally noticed, and did not change the staff's original proposed no significant hazards consideration determination as published in the Federal Register.

The Commission's related evaluation of the amendment is contained in a Safety Evaluation dated August 27, 2019.

No significant hazards consideration comments received: No.

Entergy Nuclear Operations, Inc., Docket No. 50-247, Indian Point Nuclear Generating Unit No. 2, Westchester County, New York

Date of amendment request: December 11, 2017, as supplemented by letter dated June 6, 2019.

Brief description of amendment: The amendment revised Technical Specification (TS) Limiting Condition for Operation 3.7.13, “Spent Fuel Pit Storage,” and TS 4.0, “Design Features,” Section 4.3, “Fuel Storage.” The amendment resolves a non-conservative TS associated with TS Limiting Condition for Operation 3.7.13 and negates the need for the associated compensatory measures, while taking no credit for installed Boraflex panels.

Date of issuance: September 4, 2019.

Effective date: As of the date of issuance and shall be implemented within 120 days.

Amendment No.: 290. A publicly-available version is in ADAMS under Accession No. ML19209C966; documents related to this amendment are listed in the Safety Evaluation enclosed with the amendment.

Facility Operating License No. DPR-26: The amendment revised the Renewed Facility Operating License and TSs.

Date of initial notice in Federal Register: March 13, 2018 (83 FR 10916). The supplemental letter dated June 6, 2019, provided additional information that clarified the application, did not expand the scope of the application as originally noticed, and did not change the NRC staff's original proposed no significant hazards consideration determination as published in the Federal Register.

The Commission's related evaluation of the amendment is contained in a Safety Evaluation dated September 4, 2019.

No significant hazards consideration comments received: No.

Exelon Generation Company, LLC, and PSEG Nuclear LLC, Docket Nos. 50-277 and 50-278, Peach Bottom Atomic Power Station (Peach Bottom), Units 2 and 3, York and Lancaster Counties, Pennsylvania

Date of amendment request: September 28, 2018, as supplemented by letters dated February 15, 2019; March 26, 2019; and May 23, 2019.

Brief description of amendments: The amendments revised the design and licensing basis described in the Peach Bottom Updated Final Safety Analysis Report to reduce the design pressure rating of the high-pressure service water (HPSW) system. This change provides additional corrosion margin in the HPSW system pipe wall thickness, thereby increasing the margin of safety for the existing piping. In addition, this change also temporarily revises certain Technical Specifications (TSs) to allow sufficient time to perform modifications of the HPSW system to support the proposed reduction of the HPSW design pressure and to allow for timely repairs of a heat exchanger on Peach Bottom, Unit 3.

Date of issuance: August 28, 2019.

Effective date: As of the date of issuance and shall be implemented within 60 days of issuance.

Amendments Nos.: 327 (Unit 2) and 330 (Unit 3). A publicly-available version is in ADAMS under Accession No. ML19182A006; documents related to these amendments are listed in the Safety Evaluation enclosed with the amendments.

Renewed Facility Operating License Nos. DPR-44 and DPR-56: The amendments revised TSs 3.6.2.3, 3.6.2.4, 3.6.2.5, and 3.7.1.

Date of initial notice in: November 6, 2018 (83 FR 55566).

The Commission's related evaluation of the amendments is contained in a Safety Evaluation dated August 28, 2019.

No significant hazards consideration comments received: No.

Exelon Generation Company, LLC, Docket No. 50-461, Clinton Power Station (CPS), Unit No. 1, DeWitt County, Illinois

Exelon Generation Company, LLC and Exelon FitzPatrick, LLC, Docket No. 50-333, James A. FitzPatrick Nuclear Power Plant (JAF), Oswego County, New York

Exelon Generation Company, LLC, Docket Nos. 50-373 and 50-374, LaSalle County Station (LCS), Units 1 and 2, LaSalle County, Illinois

Exelon Generation Company, LLC, Docket Nos. 50-352 and 50-353, Limerick Generating Station (LGS), Units 1 and 2, Montgomery County, Pennsylvania

Exelon Generation Company, LLC, Docket No. 50-410, Nine Mile Point Nuclear Station (NMP), Unit 2, Oswego County, New York

Exelon Generation Company, LLC, and PSEG Nuclear LLC, Docket Nos. 50-277 and 50-278, Peach Bottom Atomic Power Station (PBAPS), Units 2 and 3, York and Lancaster Counties, Pennsylvania

Date of amendment request: February 1, 2019, as supplemented by letter dated March 7, 2019.

Brief description of amendments: The amendments revise the Technical Specification (TS) requirements for these facilities related to the safety limit minimum critical power ratio (MCPR) and the core operating limits report. The amendments are based on Technical Specification Task Force (TSTF) Traveler TSTF-564, Revision 2, “Safety Limit MCPR” (ADAMS Accession No. ML18297A361). The amendments for LGS and JAF also make changes to these requirements that are outside the scope of TSTF-564, Revision 2.

Date of issuance: August 28, 2019.

Effective date: As of the date of issuance and shall be implemented as shown in the following table.

Facility | Implementation requirement
CPS Unit 1 | prior to entering Mode 4 following refueling outage C1R19.
JAF | prior to entering Mode 4 following refueling outage FPR24.
LCS Unit 1 | prior to entering Mode 4 following refueling outage L1R18.
LCS Unit 2 | prior to LCS Unit 1 entering Mode 4 following refueling outage L1R18.
LGS Unit 1 | prior to entering Operational Condition 4 following refueling outage Li1R18.
LGS Unit 2 | prior to entering Operational Condition 4 following refueling outage Li2R16.
NMP Unit 2 | prior to entering Mode 4 following refueling outage N2R17.
PBAPS Unit 2 | prior to entering Mode 4 following refueling outage P2R23
PBAPS Unit 3 | prior to entering Mode 4 following refueling outage P3R22.

Amendment Nos.: CPS-225, JAF-327, LCS-238/224, LGS-236/199, NMP2-176, and PBAPS-326/329. A publicly-available version is in ADAMS under Accession No. ML19176A033. Documents related to these amendments are listed in the Safety Evaluation enclosed with the amendments.

Facility Operating License Nos. NPF-62, DPR-59, NPF-11, NPF-18, NPF-39, NPF-85, NPF-69, DPR-44, and DPR-56: Amendments revised the Facility Operating Licenses and TSs.

Date of initial notice in: April 9, 2019 (84 FR 14146).

The Commission's related evaluation of the amendments is contained in a Safety Evaluation dated August 28, 2019.

No significant hazards consideration comments received: No.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of amendment request: January 31, 2019, as supplemented by letter dated August 9, 2019.

Brief description of amendments: The amendments revised Technical Specifications (TSs) for inoperable snubbers by adding limiting condition for operation (LCO) 3.0.9. The change is consistent with the NRC-approved Technical Specification Task Force (TSTF) Standard Technical Specifications Change Traveler, TSTF-372, “Addition of LCO 3.0.8, lnoperability of Snubbers.”

Date of issuance: August 28, 2019.

Effective date: As of the date of issuance and shall be implemented within 30 days from the date of issuance.

Amendment Nos.: 202/208 (Braidwood, Units 1 and 2), and 208/208 (Byron, Unit Nos. 1 and 2). A publicly-available version is in ADAMS under Accession No. ML19190A081; documents related to these amendments are listed in the related Safety Evaluation enclosed with the amendments.

Renewed Facility Operating License Nos. NPF-72, NPF-77, NPF-37, and NPF-66: The amendments revised the TSs and the Renewed Facility Operating Licenses.

Date of initial notice in: May 7, 2019 (84 FR 19970).

The Commission's related evaluation of the amendments is contained in a Safety Evaluation dated August 28, 2019.

No significant hazards consideration comments received: No.

Exelon Generation Company, LLC, Docket No. 50-289, Three Mile Island Nuclear Station, Unit 1 (TMI-1), Dauphin County, Pennsylvania

Date of amendment request: July 25, 2018, as supplemented by letter dated March 6, 2019.

Brief description of amendment: The amendment revised the TMI-1 Renewed Facility Operating License and the associated Technical Specifications (TSs) to permanently defueled TSs, consistent with the permanent cessation of reactor operation and permanent defueling of the reactor. The amendment also changed the current licensing basis mitigation strategies for flood mitigation and aircraft impact protection in the air intake tunnel.

Date of issuance: August 29, 2019.

Effective date: The amendment is effective following the docketing of the certifications required by 10 CFR 50.82(a)(1)(i) and (ii) that TMI-1 has been permanently shut down and defueled. The amendment shall be implemented within 30 days of the effective date of the amendment, but will not exceed December 31, 2019.

Amendment No.: 297. A publicly-available version is in ADAMS under Accession No. ML19211D317; documents related to this amendment are listed in the Safety Evaluation enclosed with the amendment.

Renewed Facility Operating License No. DPR-50: The amendment revised the Renewed Facility Operating License and TSs.

Date of initial notice in: November 20, 2018 (83 FR 58611). The supplemental letter dated March 6, 2019, provided additional information that clarified the application, did not expand the scope of the application as originally noticed, and did not change the NRC staff's original proposed no significant hazards consideration determination as published in the Federal Register.

The Commission's related evaluation of the amendment is contained in a Safety Evaluation dated August 29, 2019.

No significant hazards consideration comments received: No.

Holtec Pilgrim, LLC and Holtec Decommissioning International, LLC, Docket No. 50-293, Pilgrim Nuclear Power Station (Pilgrim), Plymouth County, Massachusetts

Date of amendment request: November 16, 2018, as supplemented by letters dated November 16, 2018; April 17, 2019; and July 29, 2019.

Brief description of amendment: The amendment revised Renewed Facility Operating License No. DPR-35 to reflect the indirect transfer of Pilgrim Renewed Facility Operating License No. DPR-35 and the general license for the Pilgrim Independent Spent Fuel Storage Installation from Entergy Nuclear Operations, Inc. (ENOI) to Holtec International; the name change for Entergy Nuclear Generation Company to Holtec Pilgrim, LLC; and the direct transfer of ENOI's operating authority to Holtec Decommissioning International, LLC.

Date of issuance: August 27, 2019.

Effective date: As of the date of issuance and shall be implemented within 30 days of issuance.

Amendment No.: 249. A publicly-available version is in ADAMS under Accession No. ML19235A050; documents related to this amendment are listed in the Safety Evaluation referenced in the letter dated August 22, 2019 (ADAMS Accession No. ML19170A101).

Renewed Facility Operating License No. DPR-35: The amendment revised the Renewed Facility Operating License and Technical Specifications.

Date of initial notice in: January 31, 2019 (84 FR 816).

The Commission's related evaluation of the amendment is contained in a Safety Evaluation dated August 27, 2019.

Northern States Power Company—Minnesota, Docket No. 50-263, Monticello Nuclear Generating Plant (MNGP), Wright County, Minnesota

Date of amendment request: March 28, 2018, as supplemented by letters dated March 13, 2019, and May 15, 2019.

Brief description of amendment: The amendment added a condition to the MNGP renewed facility operating license to allow the implementation of 10 CFR 50.69, “Risk-informed categorization and treatment of structures, systems and components for nuclear power reactors.”

Date of issuance: August 29, 2019.

Effective date: As of the date of issuance and shall be implemented within 90 days of issuance.

Amendment No.: 203. A publicly-available version is in ADAMS under Accession No. ML19176A421; documents related to this amendment are listed in the Safety Evaluation enclosed with the amendment.

Renewed Facility Operating License No. DPR-22: Amendment revised the Facility Operating License and Technical Specifications.

Date of initial notice in: May 22, 2018 (83 FR 23735). The supplemental letters dated March 13, 2019, and May 15, 2019, provided additional information that clarified the application, did not expand the scope of the application as originally noticed, and did not change the staff's original proposed no significant hazards consideration determination as published in the Federal Register.

The Commission's related evaluation of the amendment is contained in a Safety Evaluation dated August 29, 2019.

No significant hazards consideration comments received: No.

PSEG Nuclear LLC, Docket No. 50-354, Hope Creek Generating Station, Salem County, New Jersey

Date of amendment request: April 18, 2019.

Brief description of amendment: The amendment revised Hope Creek Generating Station Technical Specification (TS) 3.6.5.1, “Secondary Containment Integrity,” Surveillance Requirements (SRs) 4.6.5.1.a and 4.6.5.1.b.2.a. SR 4.6.5.1.a is revised to address conditions during which the secondary containment pressure may not meet the SR pressure requirements. SR 4.6.5.1.b.2.a is modified to acknowledge that both secondary containment access openings may be simultaneously open for entry and exit. Additionally, TS Definitions 1.39.d and 1.39.g are revised to conform to the changes to these two SRs.

Date of issuance: September 6, 2019.

Effective date: As of the date of issuance and shall be implemented within 60 days of the date of issuance.

Amendment No.: 218. A publicly-available version is in ADAMS under Accession No. ML19205A306; documents related to this amendment are listed in the Safety Evaluation enclosed with the amendment.

Renewed Facility Operating License No. NPF-57: The amendment revised the Renewed Facility Operating License and TSs.

Date of initial notice in Federal Register: June 4, 2019 (84 FR 25839).

The Commission's related evaluation of the amendment is contained in a Safety Evaluation dated September 6, 2019.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant (Hatch), Unit Nos. 1 and 2, Appling County, Georgia

Date of amendment request: October 17, 2018.

Brief description of amendments: The amendments modified the required actions associated with the Hatch, Unit Nos. 1 and 2, Technical Specification (TS) 3.6.4.1, “Secondary Containment,” to allow up to 7 days to determine and correct the cause of secondary containment degradation when at least one combination of standby gas treatment subsystems can maintain adequate secondary containment vacuum.

Date of issuance: September 4, 2019.

Effective date: As of the date of issuance and shall be implemented within 90 days of issuance.

Amendment Nos.: 298 (Unit 1) and 243 (Unit 2). A publicly-available version is in ADAMS under Accession No. ML19198A104; documents related to these amendments are listed in the Safety Evaluation enclosed with the amendments.

Renewed Facility Operating License Nos. DPR-57 and NPF-5: Amendments revised the Renewed Facility Operating Licenses and TSs.

Date of initial notice in Federal Register: March 26, 2019 (84 FR 11342).

The Commission's related evaluation of the amendment is contained in a Safety Evaluation dated September 4, 2019.

No significant hazards consideration comments received: No.

Tennessee Valley Authority (TVA) Docket Nos. 50-259, 50-260, and 50-296, Browns Ferry Nuclear Plant (Browns Ferry), Units 1, 2, and 3, Limestone County, Alabama

TVA Docket Nos. 50-327 and 50-328, Sequoyah Nuclear Plant (Sequoyah), Units 1 and 2, Hamilton County, Tennessee

TVA Docket Nos. 50-390 and 50-391, Watts Bar Nuclear Plant (Watts Bar), Units 1 and 2, Rhea County, Tennessee

Date of amendment request: November 17, 2017, as supplemented by letter dated June 18, 2018, and as subsequently revised by letter dated November 19, 2018, and supplemented by letter dated January 25, 2019.

Brief description of amendments: The amendments added a new level of protection regarding “unbalanced voltage” to the Technical Specifications (TSs) for the loss of power instrumentation. Implementation of these amendments provides for equipment protection from the effects of an unbalanced voltage in a similar fashion to the existing degraded and loss of voltage protection schemes. Specifically, the amendments added a new condition to TS 3.3.8.1 and revised TS Table 3.3.8.1-1 for Browns Ferry, and added a new condition to TS 3.3.5 and revised TS Table 3.3.5-1 for Sequoyah and Watts Bar to reflect the implementation of the Class 1E “unbalanced voltage” relays for Browns Ferry, Sequoyah, and Watts Bar TSs loss of power instrumentation.

Date of issuance: August 27, 2019.

Effective date: As of the date of issuance and shall be implemented within 120 days of issuance.

Amendment Nos.: 309, 332, and 292 (Browns Ferry, Units 1, 2, and 3 respectively); 345 and 339 (Sequoyah, Units 1 and 2, respectively); and 128 and 31 (Watts Bar, Units 1 and 2, respectively). A publicly-available version is in ADAMS under Accession No. ML18277A110; documents related to these amendments are listed in the Safety Evaluation enclosed with the amendments.

Renewed Facility Operating License Nos. DPR-33, DPR-52, DPR-68, DPR-77, and DPR-79, and Facility Operating License Nos. NPF-90 and NPF-96: The amendments revised the Facility Operating Licenses and TSs.

Date of initial notice in Federal Register: January 16, 2018 (83 FR 2231). The supplemental letter dated June 18, 2018, and as subsequently revised by letter dated November 19, 2018, and supplemented by letter dated January 25, 2019, provided additional information that clarified the application, did not expand the scope of the application as originally noticed, and did not change the NRC staff's original proposed no significant hazards consideration determination as published in the Federal Register.

The Commission's related evaluation of the amendments is contained in a Safety Evaluation dated August 27, 2019.

No significant hazards consideration comments received: No.

Dated at Rockville, Maryland, this 18th day of September 2019.
For the Nuclear Regulatory Commission.
Jessica A. Bielecki,
Acting Deputy Director, Division of Operating Reactor Licensing, Office of Nuclear Reactor Regulation.

[FR Doc. 2019-20507 Filed 9-23-19; 8:45 am]

BILLING CODE 7590-01-P